NATIONAL SCIENCE FOUNDATION

Notice Regarding Changed Venue for Public Hearing On a Draft Programmatic Environmental Impact Statement/Overseas Environmental Impact Statement (PEIS)

AGENCY: National Science Foundation.

ACTION: Notice regarding changed venue for public hearing.

SUMMARY: The National Science Foundation (NSF) and the U.S. Geological Survey (USGS) held public hearings on the Draft Programmatic Environmental Impact Statement/Overseas Environmental Impact Statement for Marine Seismic Research Funded by the National Science Foundation or Conducted by the US Geological Survey (PEIS) on October 25, 2010 in San Diego, CA and October 27, 2010 in Arlington, VA. The Arlington, VA public hearing location was originally planned to be held at the NSF building located at 4201 Wilson Blvd. Unfortunately, due to a fire in the NSF building on the afternoon of October 27, 2010, the public hearing location was moved to Marine Acoustics Inc., located at 4100 Fairfax Drive (a building two blocks from NSF). Signs were posted on the outside doors of the NSF building announcing the new hearing location, and a security guard stationed at the main NSF entrance outside the meeting room directed hearing attendees who were unaware of the NSF emergency to the new hearing venue. NSF apologizes for any confusion or inconvenience that may have resulted from the emergency situation which prompted the change in public hearing venue. Should you have any questions or concerns about the Public Hearing, or Draft PEIS, please contact Holly Smith, NSF, at 703-292-8583 or nepacomments@nsf.gov.

The presentation slides used by NSF at the public hearings are posted on the NSF Web site at: http://www.nsf.gov/geo/oce/envcomp/index.jsp. Please note, however, that if there is any perceived inconsistency between the presentation and the Draft PEIS, the language in the Draft PEIS controls. The public comment period will remain open until November 22, 2010.

FOR FURTHER INFORMATION CONTACT: For further information regarding the Draft PEIS contact: Holly Smith, National Science Foundation, Division of Ocean Sciences, 4201 Wilson Blvd., Suite 725, Arlington, VA 22230; telephone: (703) 292-8583; e-mail: nepacomments@nsf.gov.

Dated: November 8, 2010.
Suzanne H. Plimpton,
Reports Clearance Officer, National Science Foundation.

[FR Doc. 2010-28450 Filed 11-10-10; 8:45 am]

BILLING CODE 7555-01-P